NATIONAL FOUNDATION ON THE ARTS AND THE HUMANITIES

Institute of Museum and Library Services

Notice of Proposed Information Collection Requests: Generic Clearance To Conduct Pre-Testing of Surveys

AGENCY: Institute of Museum and Library Services, National Foundation on the Arts and the Humanities.

ACTION: Notice, request for comments on this collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed.

DATES: Written comments must be submitted to the office listed in the ADDRESSES section below on or before September 6, 2020.

ADDRESSES: Send comments to: Dr. Connie Bodner, Director of Grants Policy and Management, Institute of Museum and Library Services, 955 L'Enfant Plaza North SW, Suite 4000, Washington, DC 20024-2135. Dr. Bodner can be reached by telephone at 202-653-4636, or by email at cbodner@imls.gov, or by teletype (TTY/TDD) for persons with hearing difficulty at 202-653-4614.

FOR FURTHER INFORMATION CONTACT: For a copy of the documents contact: Dr. Matthew Birnbaum, Senior Evaluation Officer, Office of Digital and Information Strategy, Institute of Museum and Library Services, 955 L'Enfant Plaza North SW, Suite 4000, Washington, DC 20024-2135. Dr. Birnbaum can be reached by telephone: 202-653-4760, or by email at mbirnbaum@imls.gov, or by teletype (TTY/TDD) for persons with hearing difficulty at 202-653-4614.

SUPPLEMENTARY INFORMATION: This is a new collection to conduct various procedures to test questionnaires and survey procedures to improve the quality and usability of information collection instruments. The Agency is especially interested in public comment addressing the following issues: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on those who are to respond, including use of appropriate automated, electronic, mechanical, or other technological collection techniques or other forms of information technology. A copy of the proposed information collection request can be obtained by contacting the individual listed in the ADDRESSES section of this notice.

I. Background

The Institute of Museum and Library Services (IMLS) is the primary source of Federal support for the nation's libraries and museums. We advance, support, and empower America's museums, libraries, and related organizations through grant making, research, and policy development. Our vision is a nation where museums and libraries work together to transform the lives of individuals and communities. To learn more, visit www.imls.gov.

II. Current Actions

IMLS intends to request approval from the Office of Management and Budget (OMB) for a generic clearance that will allow IMLS to conduct a variety of data-gathering activities aimed at improving the quality and usability of information collection instruments associated with research and analysis activities, including but not limited to the Public Libraries Survey and the State Library Administrative Agencies Survey.

IMLS envisions using a variety of techniques including field tests, respondent debriefing questionnaires, cognitive interviews, and focus groups in order to identify questionnaire and procedural problems, suggest solutions, and measure the relative effectiveness of alternative solutions.

Following standard OMB requirements, IMLS will submit a change request to OMB for each data collection activity undertaken under this generic clearance. IMLS will provide OMB with the instruments and supporting materials describing the research project and specific pre-testing activities.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology (e.g., permitting electronic submissions of responses).

Agency: Institute of Museum and Library Services.

Title: Generic Clearance to Conduct Pre-Testing of Surveys.

OMB Number: 3137-XXXX.

Affected Public: The respondents will be identified at the time that each change request is submitted to OMB. Respondents will include State, Local, and Tribal governments.

Estimated Number of Respondents: 650.

Estimated Number of Responses per Respondent: 1.

Estimated Total Annual Responses: 650.

Estimated Time per Response: 1 hour.

Estimated Total Annual Burden on Respondents: 650 hours.

Dated: July 6, 2020.
Kim Miller,
Senior Grants Management Specialist, Institute of Museum and Library Services.

[FR Doc. 2020-14794 Filed 7-9-20; 8:45 am]

BILLING CODE 7036-01-P